DEPARTMENT OF TRANSPORTATION

Federal Aviation Administration

14 CFR Part 39

[Docket No. 2000-NM-338-AD; Amendment 39-12677; AD 2002-06-01]

RIN 2120-AA64

Airworthiness Directives; Airbus Model A319, A320, and A321 Series Airplanes

AGENCY: Federal Aviation Administration, DOT.

ACTION: Final rule.

SUMMARY: This amendment supersedes two existing airworthiness directives (ADs), applicable to certain Airbus Model A319, A320, and A321 series airplanes. The first AD currently requires removing the existing forward pintle nut and cross bolt on the main landing gear (MLG), and installing a new nylon spacer and cross bolt and nut. The second AD currently requires repetitive inspections for discrepancies of the lock bolt for the pintle pin on the MLG, follow-on corrective actions if necessary, and retorquing of the forward pintle pin lock bolt for certain airplanes. That AD also provides an optional terminating action. This amendment cancels the requirements of the first AD, continues the requirements of the second AD, and requires the previously optional terminating action that the second AD provides. This amendment is prompted by issuance of mandatory continuing airworthiness information by a foreign civil airworthiness authority. The actions specified by this AD are intended to prevent a rotated, damaged, or missing lock bolt, which could result in disengagement of the pintle pin from the pintle fitting bearing, and consequent collapse of the MLG during landing.

DATES: Effective May 28, 2002.

The incorporation by reference of Airbus Service Bulletin A320-32-1213, Revision 02, dated February 9, 2001, as listed in the regulations, is approved by the Director of the Federal Register as of May 28, 2002.

The incorporation by reference of certain other publications, as listed in the regulations, was approved previously by the Director of the Federal Register as of June 30, 2000 (65 FR 34059, May 26, 2000).

The incorporation by reference of Airbus All Operator Telex (AOT) 32-17, Revision 01, dated November 6, 1997, as listed in the regulations, was approved previously by the Director of the Federal Register as of August 12, 1998 (63 FR 36834, July 8, 1998).

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION: A proposal to amend part 39 of the Federal Aviation Regulations (14 CFR part 39) by superseding AD 96-10-18, amendment 39-9625 (61 FR 24690, May 16, 1996), which is applicable to certain Airbus Model A320-111, -211, -212, and -231 series airplanes; and AD 2000-10-16, amendment 39-11740 (65 FR 34059, May 26, 2000), which is applicable to certain Airbus Model A319, A320, and A321 series airplanes; was published in the Federal Register on November 23, 2001 (66 FR 58684). The action proposed to cancel the requirements of the first AD, and continue to require the second AD's repetitive inspections for discrepancies of the lock bolt for the pintle pin on the main landing gear (MLG), follow-on corrective actions if necessary, and retorquing of the forward pintle pin lock bolt for certain airplanes. The action also proposed to require the previously optional terminating action that was provided for in the second AD.

Comments

Interested persons have been afforded an opportunity to participate in the making of this amendment. Due consideration has been given to the comments received from a single commenter. The commenter generally supports the intent of the proposed rule, and has no objection to the FAA's proposal to mandate the terminating action, though the commenter believes that the repetitive inspections for discrepancies of the lock bolt for the pintle pin on the MLG are sufficient to ensure safety.

Correct Cost Impact Estimate

The commenter points out that the proposed rule incorrectly estimates the cost impact of the terminating action. While the proposed rule estimates the parts cost as $540 per airplane, the actual cost is $540 per MLG leg, for a total parts cost of $1,080 per airplane. We concur with the commenter and have revised the Cost Impact section of this final rule accordingly.

Conclusion

After careful review of the available data, including the comments noted above, the FAA has determined that air safety and the public interest require the adoption of the rule with the change previously described. The FAA has determined that this change will neither increase the economic burden on any operator nor increase the scope of the AD.

Cost Impact

There are approximately 341 Model A319, A320, and A321 series airplanes of U.S. registry affected by this AD.

The actions that are currently required by AD 2000-10-16 take approximately 2 work hours per airplane to accomplish, at an average labor rate of $60 per work hour. Based on these figures, the cost impact of the currently required actions on U.S. operators is estimated to be $120 per airplane, per inspection cycle.

The new action that is required by this AD will take approximately 3 work hours per airplane to accomplish, at an average labor rate of $60 per work hour. Required parts will cost approximately $1,080 per airplane. Based on these figures, the cost impact of the new requirements of this AD on U.S. operators is estimated to be $429,660, or $1,260 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendments 39-11740 (65 FR 34059, May 26, 2000), and 39-9625 (61 FR 24690, May 16, 1996), and by adding a new airworthiness directive (AD), amendment 39-12677, to read as follows:

2002-06-01 Airbus Industrie: Amendment 39-12677. Docket 2000-NM-338-AD. Supersedes AD 2000-10-16, Amendment 39-11740; and AD 96-10-18, Amendment 39-9625.

Applicability: Model A319, A320, and A321 series airplanes, certificated in any category, except those on which Airbus Service Bulletin A320-32-1213, dated March 21, 2000 (reference Airbus Modification 28903 or 30044) has been accomplished.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (d)(1) of this AD. The request should include an assessment of the effect of the modification, alteration, or repair on the unsafe condition addressed by this AD; and, if the unsafe condition has not been eliminated, the request should include specific proposed actions to address it.

Compliance: Required as indicated, unless accomplished previously.

To prevent a rotated, damaged, or missing lock bolt, which could result in disengagement of the pintle pin from the pintle fitting bearing, and consequent collapse of the main landing gear (MLG) during landing, accomplish the following:

Note 2: Paragraphs (a) and (b) of this AD repeat the actions that were previously mandated by AD 2000-10-16. The intent of including these paragraphs is to ensure that the currently required repetitive inspections continue to be accomplished until the terminating modifications are installed.

Restatement of Requirements of AD 2000-10-16

Inspection

(a) Perform a detailed inspection to detect discrepancies (rotation, damage, and absence) of the lock bolt for the pintle pin on the MLG, in accordance with Airbus All Operator Telex (AOT) 32-17, Revision 01, dated November 6, 1997; Airbus Service Bulletin A320-32-1187, dated June 17, 1998; or Airbus Service Bulletin A320-32-1187, Revision 01, dated February 17, 1999; at the latest of the times specified in paragraphs (a)(1), (a)(2), and (a)(3) of this AD. If any discrepancy is detected, prior to further flight, perform corrective actions, as applicable, in accordance with the AOT or service bulletin. Repeat the inspection thereafter at intervals not to exceed 1,000 flight cycles or 15 months, whichever occurs first, unless the terminating action of paragraph (c) of this AD is accomplished. After June 30, 2000 (the effective date of AD 2000-10-16, amendment 39-11740), only Airbus Service Bulletin A320-32-1187, Revision 01, dated February 17, 1999, shall be used for compliance with this paragraph.

(1) Within 30 months since the airplane's date of manufacture or prior to the accumulation of 2,000 total flight cycles, whichever occurs first.

(2) Within 15 months or 1,000 flight cycles after the last gear replacement or accomplishment of Airbus Service Bulletin A320-32-1119, Revision 1, dated June 13, 1994, whichever occurs first.

(3) Within 500 flight cycles after August 12, 1998 (the effective date of AD 98-14-11, amendment 39-10644).

Note 3: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

One-Time Follow-on Actions

(b) For airplanes on which the actions described in paragraph 2.B.(2)(c) of Airbus Service Bulletin A320-32-1187, Revision 01, dated February 17, 1999, have not been accomplished: At the time of the initial inspection or the next repetitive inspection required by paragraph (a) of this AD, perform the applicable one-time follow-on actions (including retorquing the forward pintle pin lock bolt and applying sealant to the head of the lock bolt), in accordance with section 2.B.(2)(c) of the Accomplishment Instructions of Airbus Service Bulletin A320-32-1187, Revision 01, dated February 17, 1999.

New Actions Required by This AD

Terminating Modification

(c) Within 5 years from the effective date of this AD, or at the next MLG overhaul, whichever occurs later, modify the forward pintle pin cross bolt on both the left and right MLG (including a detailed inspection to ensure that the bolts are in proper position and are not broken, and repair if necessary; and removal and installation of the lock bolts), in accordance with Airbus Service Bulletin A320-32-1213, Revision 02, dated February 9, 2001. This modification constitutes terminating action for the requirements of this AD.

Note 4: Accomplishment of the actions required in paragraph (c) of this AD, prior to the effective date of this AD, in accordance with Airbus Service Bulletin A320-32-1213, dated March 21, 2000, or Revision 01, dated November 15, 2000, is considered acceptable for compliance with paragraph (c) of this AD.

Alternative Methods of Compliance

(d)(1) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

(2) Alternative methods of compliance, approved previously in accordance with AD 2000-10-16, amendment 39-11740, are approved as alternative methods of compliance with this AD.

Note 5: Information concerning the existence of approved alternative methods of compliance with this AD, if any, may be obtained from the Manager, International Branch, ANM-116.

Special Flight Permits

(e) Special flight permits may be issued in accordance with sections 21.197 and 21.199 of the Federal Aviation Regulations (14 CFR 21.197 and 21.199) to operate the airplane to a location where the requirements of this AD can be accomplished.

Incorporation by Reference

(f) The actions shall be done in accordance with Airbus All Operator Telex (AOT) 32-17, Revision 01, dated November 6, 1997, Airbus Service Bulletin A320-32-1187, dated June 17, 1998, or Airbus Service Bulletin A320-32-1187, Revision 01, dated February 17, 1999; and Airbus Service Bulletin A320-32-1213, Revision 02, dated February 9, 2001; as applicable.

(1) The incorporation by reference of Airbus Service Bulletin A320-32-1213, Revision 02, dated February 9, 2001, is approved by the Director of the Federal Register in accordance with 5 U.S.C. 552(a) and 1 CFR part 51.

(2) The incorporation by reference Airbus Service Bulletin A320-32-1187, dated June 17, 1998; and Airbus Service Bulletin A320-32-1187, Revision 01, dated February 17, 1999; was approved previously by the Director of the Federal Register, as of June 30, 2000 (65 FR 34059, May 26, 2000).

(3) The incorporation by reference of Airbus All Operator Telex (AOT) 32-17, Revision 01, dated November 6, 1997, was approved previously by the Director of the Federal Register as of August 12, 1998 (63 FR 36834, July 8, 1998).

(4) Copies of any of these service documents may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 6: The subject of this AD is addressed in French airworthiness directive 2000-428-153(B), Revision 1, dated November 29, 2000.

Effective Date

(g) This amendment becomes effective on May 28, 2002.

Issued in Renton, Washington, on April 11, 2002.
Vi L. Lipski,
Manager, Transport Airplane Directorate, Aircraft Certification Service.

[FR Doc. 02-9573 Filed 4-22-02; 8:45 am]

BILLING CODE 4910-13-U